DEPARTMENT OF COMMERCE

International Trade Administration

[C-533-821]

Certain Hot-Rolled Carbon Steel Flat Products From India: Extension of Preliminary Results of Countervailing Duty Administrative Review

AGENCY: Import Administration, International Trade Administration, Department of Commerce.

ACTION: Notice of extension of time limit for preliminary results of countervailing duty administrative review.

EFFECTIVE DATE: July 30, 2003.

FOR FURTHER INFORMATION CONTACT: Tipten Troidl, Office of AD/CVD Enforcement VI, Import Administration, International Trade Administration, U.S. Department of Commerce, 14th Street and Constitution Ave, NW., Washington, DC 20230; telephone: (202) 482-2786.

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On January 22, 2003, the Department published a notice of initiation of administrative review of the countervailing duty order on certain hot-rolled carbon steel flat products from India, covering the period April 20, 2001, through December 31, 2002 (see 68 FR 3009). The preliminary results are currently due no later than September 2, 2003.

Extension of Preliminary Results of Review

In this administrative review, we are currently reviewing new subsidy allegations; including: debt forgiveness, debt restructuring, suspension of interest payments, and debt-to-equity conversions. In addition, we are reviewing numerous programs found countervailable during the original investigation. In order to complete our analysis, we not only require additional information, but also additional time. See July 24, 2003, Memorandum to Holly A. Kuga, Acting Deputy Assistant Secretary, RE: Extension of Preliminary Results: Certain Hot-Rolled Carbon Steel Flat Products from India. As a result, it is not practicable to complete the preliminary results of this review within the original time limit. Therefore, the Department is extending the time limits for completion of the preliminary results until no later than December 31, 2003.

This extension is in accordance with section 751(a)(3)(A) of the Act.

Dated: July 24, 2003.
Holly A. Kuga,
Acting Deputy Assistant Secretary for Import Administration.

[FR Doc. 03-19429 Filed 7-29-03; 8:45 am]

BILLING CODE 3510-DS-P